DEPARTMENT OF HEALTH AND HUMAN SERVICES

Administration for Children and Families

Office of Family Assistance; Privacy Act of 1974; System of Records

AGENCY: Office of Family Assistance, ACF, HHS.

ACTION: Notice to establish a new system of records.

SUMMARY: In accordance with the requirements of the Privacy Act of 1974 (5 U.S.C. 552a), as amended, the Administration for Children and Families (ACF) is publishing notice of a new system of records, entitled “Administration for Children and Families' National Responsible Fatherhood Pledge Campaign (NRFPC).”

DATES: The Department of Health and Human Services (HHS) invites interested parties to submit written comments on the proposed system until April 14, 2010. As required by the Privacy Act (5 U.S.C. 552a(r)), HHS on March 9, 2010, sent a report of a new system of records to the Committee on Homeland Security and Governmental Affairs of the Senate, the Committee on Oversight and Government Reform of the House of Representatives, and the Office of Information and Regulatory Affairs of the Office of Management and Budget (OMB). The proposed action described in this notice is effective on April 26, 2010, unless HHS receives comments which result in a contrary determination.

ADDRESSES: Interested parties may submit written comment on this notice by writing to Robin Y. McDonald, Office of Family Assistance, Administration for Children and Families, 370 L'Enfant Promenade, SW., 5th Floor East, Washington, DC 20447. Comments received will be available for public inspection at this address from 9 a.m. to 5 p.m., Monday through Friday.

FOR FURTHER INFORMATION CONTACT: Robin Y. McDonald, Office of Family Assistance, Administration for Children and Families, 370 L'Enfant Promenade, SW., 5th Floor East, Washington, DC 20447. The telephone number is (202) 401-5587.

SUPPLEMENTARY INFORMATION: The establishment of the proposed new system of records will enable ACF, in response to President Barack Obama's call for a national conversation on responsible fatherhood and healthy families, to assist interested parties to do all they can in providing children in their homes and communities the encouragement and support they need to fulfill their potential. In support of this objective, pledge cards will be available on the National Responsible Fatherhood Clearinghouse Web site and in print formats. The voluntarily provided data elements from these pledge cards will assist ACF and the White House Office of Faith-Based and Neighborhood Partnerships to provide supporting parties with information to promote a national discourse on responsible fatherhood and healthy families.

Dated: March 9, 2010.
Carmen R. Nazario,
Assistant Secretary for Children and Families.

09-80-0390

SYSTEM NAME:

Administration for Children and Families' National Responsible Fatherhood Pledge Campaign (NRFPC).

SECURITY CLASSIFICATION:

None.

SYSTEM LOCATION:

Administration for Children and Families, Office of Family Assistance, 370 L'Enfant Promenade, W., 5th Floor East, Washington, DC 20447.

CATEGORIES OF INDIVIDUALS COVERED BY THE SYSTEM:

Parties who voluntarily complete and submit the NRFPC pledge card through the National Responsible Fatherhood Clearinghouse, part of the Administration for Children and Families (ACF).

CATEGORIES OF RECORDS IN THE SYSTEM:

Name, Mobile Phone Number, E-mail address, City, State, Zip Code.

AUTHORITY FOR MAINTENANCE OF THE SYSTEM:

Legal authority for maintenance of the system is provided by section 403(a)(2)(C) of the Social Security Act, 42 U.S.C. 603(a)(2)(C).

PURPOSE:

As authorized by the Social Security Act, and in response to President Barack Obama's call for a national conversation on responsible fatherhood and healthy families, parties will pledge to renew their commitment to family and community and recognize the positive impact that responsible adults can have on our children and youth. By taking the President's Pledge on Responsible Fatherhood, parties commit to do all they can in providing children in their homes and communities the encouragement and support they need to fulfill their potential. In support of this objective, pledge cards will be available on the National Responsible Fatherhood Clearinghouse website and in print formats. The voluntarily provided data elements from these pledge cards will assist the Administration for Children and Families and the White House Office of Faith-Based and Neighborhood Partnerships to provide supporting parties with information to promote a national discourse on responsible fatherhood and healthy families.

ROUTINE USES OF RECORDS MAINTAINED IN THE SYSTEM, INCLUDING CATEGORIES OF USERS AND THE PURPOSES OF SUCH USES:

These routine uses specify circumstances, in addition to those provided by statute in the Privacy Act of 1974, under which ACF may release information from this system of records without the consent of the data subject. Each proposed disclosure of information under these routine uses will be evaluated to ensure that the disclosure is legally permissible, including but not limited to ensuring that the purpose of the disclosure is compatible with the purpose for which the information was collected.

(1) Information may be disclosed to the appropriate Federal, State, local, tribal, or foreign agency responsible for investigating, prosecuting, enforcing, or implementing a statute, rule, regulation, or order, if the information is relevant to a violation or potential violation of civil or criminal law or regulation within the jurisdiction of the receiving entity.

(2) Information may be disclosed to a congressional office from the record of an individual in response to a written inquiry from the congressional office made at the request of the individual.

(3) Information may be disclosed to the Department of Justice, or in a proceeding before a court, adjudicative body, or other administrative body before which the Agency is authorized to appear, when:

1. The Agency, or any component thereof; or

2. Any employee of the Agency in his or her official capacity; or

3. Any employee of the Agency in his or her individual capacity where the Department of Justice or the Agency has agreed to represent the employee; or

4. The United States, if the Agency determines that litigation is likely to affect the Agency or any of its components, is a party to litigation or has an interest in such litigation, and the use of such records by the Department of Justice or the Agency is deemed by the Agency to be relevant and necessary to the litigation; provided, however, that in each case it has been determined that the disclosure is compatible with the purpose for which the records were collected.

(4) Information may be disclosed to the National Archives and Records Administration in records management inspections.

(5) Information may be disclosed to contractors, grantees, consultants, or volunteers performing or working on a contract, service, grant, cooperative agreement, job, or other activity for the Agency and who have a need to have access to the information in the performance of their duties or activities for the Agency.

(6) Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

(7) Information from this system of records may be disclosed to the White House Office of Faith-Based and Neighborhood Partnerships for the purposes of outreach, communication and information dissemination related to the promotion of responsible fatherhood and healthy families activities, as described by the Social Security Act, at 42 U.S.C. 603(a)(2)(C)(ii)(IV).

(8) Information from this system of records may be disclosed to appropriate Federal agencies and Department contractors that have a need to know the information for the purpose of assisting the Department's efforts to respond to a suspected or confirmed breach of the security or confidentiality of information maintained in this system of records, and the information disclosed is relevant and necessary for that assistance.

DISCLOSURE TO CONSUMER REPORTING AGENCIES:

None.

POLICIES AND PRACTICES FOR STORING, RETRIEVING, ACCESSING, RETAINING, AND DISPOSING OF RECORDS IN THE SYSTEM: STORAGE:

Records are stored on a computer network.

RETRIEVABILITY:

Records can be accessed by name and/or location (area code, city, state, zip code).

SAFEGUARDS:

Safeguards conform to the HHS Information Security Program, described at http://www.hhs.gov/ocio/securityprivacy/index.html.

RETENTION AND DISPOSAL:

Records will be retained by ACF until the termination or transfer of the National Responsible Fatherhood Clearinghouse. Hard copies of collected pledge cards will be shredded upon entry into the NRFPC database.

SYSTEM MANAGER AND ADDRESS:

Technical Assistance Branch Chief, Office of Family Assistance, Administration for Children and Families, 370 L'Enfant Promenade, SW., 5th Floor East, Washington, DC 20447.

NOTIFICATION PROCEDURE:

Individuals seeking to determine whether this system of records contains information about themselves should address written inquiries to the System Manager. The request should include the name, telephone number and/or email address, and address of the individual, and the request must be signed. Verification of identity as described in the Department's Privacy Act regulations may be required. 45 CFR 5b.5. The requestor's letter must also provide sufficient particulars to enable ACF to distinguish between records on subject individuals with the same name.

RECORD ACCESS PROCEDURE:

Individuals seeking access to a record about themselves in this system of records should address written inquiries to the System Manager. The request should include the name, telephone number and/or email address, and address of the individual, and should be signed. Verification of identity as described in the Department's Privacy Act regulations may be required. 45 CFR 5b.5. The requestor's letter must also provide sufficient particulars to enable ACF to distinguish between records on subject individuals with the same name.

CONTESTING RECORD PROCEDURE:

Individuals seeking to amend a record about themselves in this system of records should address the request for amendment to the System Manager. The request should (1) include the name, telephone number and/or email address, and address of the individual, and should be signed; (2) provide the name or other information about the project that the individual believes contains his or her records; (3) identify the information that the individual believes is not accurate, relevant, timely, or complete; (4) indicate what corrective action is sought; and (5) include supporting justification or documentation for the requested amendment. Verification of identity as described in the Department's Privacy Act regulations may be required. 45 CFR 5b.5.

RECORD SOURCE CATEGORIES:

The record subjects are the source for the records that will be collected and contained in the system.

EXEMPTIONS CLAIMED FOR THE SYSTEM:

None.

[FR Doc. 2010-5585 Filed 3-15-10; 8:45 am]

BILLING CODE P